Presidential Determination No. 2015-05 of April 10, 2015

Presidential Determination on the Proposed Agreement for Cooperation Between the Government of the United States of America and the Government of the People's Republic of China Concerning Peaceful Uses of Nuclear Energy

Memorandum for the Secretary of State [and] the Secretary of Energy

I have considered the proposed Agreement for Cooperation Between the Government of the United States of America and the Government of the People's Republic of China Concerning Peaceful Uses of Nuclear Energy (the ``Agreement''), along with the views, recommendations, and statements of the interested departments and agencies.

I have determined that the performance of the Agreement will promote, and will not constitute an unreasonable risk to, the common defense and security. Pursuant to section 123 b. of the Atomic Energy Act of 1954, as amended (42 U.S.C. 2153(b)), I hereby approve the proposed Agreement and authorize the Secretary of State to arrange for its execution.

The Secretary of State is authorized to publish this determination in the Federal Register.

THE WHITE HOUSE,

Washington, April 10, 2015.

[FR Doc. 2015-09367

Filed 4-20-15; 8:45 am]

Billing code 4710-10